FEDERAL ACCOUNTING STANDARDS ADVISORY BOARD

Notice of Meetings for 2006

Board Action: Pursuant to 31 U.S.C. 3511(d), the Federal Advisory Committee Act (Pub. L. 92-463), as amended, and the FASAB Rules Of Procedure, as amended in April, 2004, notice is hereby given that the Federal Accounting Standards Advisory Board (FASAB) will meet on the following dates in room 7C13 of the U.S. Government Accountability Office (GAO) Building (441 G Street, NW.:) unless otherwise noted;

—Wednesday and Thursday, January 11 and 12, 2006.

—Wednesday and Thursday, Mar 29 and 30, 2006.

—Wednesday and Thursday, May 24 and 25, 2006.

—Wednesday and Thursday, July 26 and 27, 2006.

—Wednesday and Thursday, September 27 and 28, 2006.

—Wednesday and Thursday, November 15 and 16, 2006.

The purposes of the meetings are to discuss issues related to:

—FASAB'S Conceptual framework,

—Stewardship Reporting,

—Social Insurance,

—Natural Resources,

—Inter-entity Costs,

—Fiduciary Activities,

—Technical Agenda, and

—Any other topics as needed.

A more detailed agenda can be obtained from the FASAB Web site (http://www.fasab.gov) one week prior to each meeting.

Any interested person may attend the meetings as an observer. Board discussion and reviews are open to the public. GAO Building security requires advance notice of your attendance. Please notify FASAB of your planned attendance by calling (202) 512-7350 at least one day prior to the respective meeting.

FASAB also announces the cancellation of its Board meeting scheduled for Wednesday and Thursday, December 7 and 8, 2005.

FOR FURTHER INFORMATION CONTACT: Wendy M. Comes, Executive Director, 441 G St., NW., Mail Stop 6K17V, Washington, DC 20548, or call (202) 512-7350.

Authority: Federal Advisory committee Act. Pub. L. 92-463.

Dated: May 16, 2005.
Charles Jackson,
Federal Register Liaison Officer.

[FR Doc. 05-9971 Filed 5-18-05; 8:45 am]

BILLING CODE 1610-01-M